DEPARTMENT OF TRANSPORTATION

Federal Aviation Administration

14 CFR Part 71

[Docket No. FAA-2022-0906; Airspace Docket No. 21-ASO-27]

RIN 2120-AA66

Proposed Amendment and Establishment of Area Navigation (RNAV) Routes; Eastern United States

AGENCY: Federal Aviation Administration (FAA), Transportation (DOT).

ACTION: Notice of proposed rulemaking (NPRM).

SUMMARY: This action proposes to amend five low altitude Area Navigation (RNAV) routes (T-routes) and establish five T-routes in support of the VHF Omnidirectional Range (VOR) Minimum Operational Network (MON) Program. The purpose is to enhance the efficiency of the National Airspace System (NAS) by transitioning from ground-based navigation aids to a satellite-based navigation system.

DATES: Comments must be received on or before September 8, 2022.

ADDRESSES: Send comments on this proposal to the U.S. Department of Transportation, Docket Operations, 1200 New Jersey Avenue SE, West Building Ground Floor, Room W12-140, Washington, DC 20590; telephone: (800) 647-5527, or (202) 366-9826. You must identify FAA Docket No. FAA-2022-0906; Airspace Docket No. 21-ASO-27 at the beginning of your comments. You may also submit comments through the internet at https://www.regulations.gov.

FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would expand the availability of RNAV in the eastern United States and improve the efficient flow of air traffic within the NAS by lessening the dependency on ground-based navigation.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2022-0906; Airspace Docket No. 21-ASO-27) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2022-0906; Airspace Docket No. 21-ASO-27.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Eastern Service Center, Federal Aviation Administration, Room 210, 1701 Columbia Ave., College Park, GA 30337.

Availability and Summary of Documents for Incorporation by Reference

This document proposes to amend FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

The Proposal

The FAA is proposing an amendment to 14 CFR part 71 to amend five low altitude RNAV T-routes, and to establish five T-routes in the northeast United States to support the VOR MON Program, and the transition of the NAS from ground-based navigation aids to satellite-based navigation. The proposed route changes are described below.

T-209: T-209 extends from the EHEJO, GA, Fix, to the Colliers, SC, (IRQ) VOR and Tactical Air Navigational System (VORTAC). This proposal would delete the existing segments of the route. Instead, T-209 would be realigned to the east of its current track to overlay VOR Federal airway V-185 from the Savannah, GA (SAV), VORTAC, to the Sugarloaf, NC (SUG), VORTAC. The TBERT, SC, Waypoint (WP) would replace the Savannah VORTAC. The WANSA, SC, WP would replace the Colliers VORTAC. The HRTWL, SC, WP would replace the Greenwood, SC (GRD), VORTAC. The STYLZ, NC, WP would replace the Sugarloaf VORTAC. As amended, T-209 would extend from the TBERT, SC, WP; MILEN, GA, Fix; WANSA, SC, WP; HRTWL, SC, WP, to the STYLZ, NC, WP.

T-239: T-239 extends from the Pecan, GA (PZD), VHF Omnidirectional Range/Distance Measuring Equipment (VOR/DME) to the GOINS, MS, WP. This proposal would replace the Pecan VOR/DME with the PCANN, GA, WP. The TYGRR, AL, WP would replace the Eufaula, AL (EUF), VORTAC. The Tuskegee, AL, VOR/DME and the ADZIN, AL, Fix would be removed from the route. The following points would be removed from the route legal description because they do not mark a turn point: SHANY, GA, Fix; AYUVO, GA, Fix; AXOSE, GA, Fix; MILER, AL, Fix; KENTT, AL, Fix; SEMAN, AL, Fix; NIXBY, AL, Fix; FAYEZ, AL, Fix; KYLEE, AL, Fix: ADZIN, AL, Fix; HANDE, AL, Fix; NEGEE, AL, Fix; CORES, AL, Fix; CHOOK, AL, Fix; EXIST, AL, Fix; GANTT, MS, Fix; and ICAVY, MS, Fix. Removing these points would not affect the alignment of T-239. As amended, T-239 would extend from PCANN, GA, to GOINS, MS.

T-255: T-255 extends from the NELIE, CT, Fix to the Marthas Vineyard, MA (MVY), VOR/DME. This notice proposes to replace the Providence, RI (PVD), VORTAC with the PROVI, RI, WP. The latitude and longitude coordinates for the NELIE Fix, FALMA Fix, and the Marthas Vineyard VOR/DME would be updated to include the hundredths of a second place as is required for RNAV route descriptions.

T-292: T-292 extends from the Semmes, AL (SJI), VORTAC to the JACET, GA, WP. This proposal would replace the Semmes VORTAC in the route description with the LYNRD, AL, WP. The Brookwood, AL (OKW), VORTAC would be replaced in the route description by the DAYVS, AL, WP (located 2.41 nautical miles (NM) east of the VORTAC position). As a result, the route segment between the MOVIL, AL, Fix, and the VLKNN, AL, WP would be shifted slightly east of the current track by less than 2 NM. Additionally, the following points would be removed from the legal description because they do not mark a turn point: BURIN. AL, Fix; HAZEY, AL, Fix; YARBO, AL, Fix; JANES, AL, Fix, EUTAW, AL, Fix; MOVIL, AL, Fix; HOKES, AL, Fix; POLLL, GA, WP; and REELL, GA, WP. As amended, T-292 would extend from LYNRD, AL, to JACET, GA.

T-393: T-393 extends from the GAILS, MA, Fix to the Burlington, VT (BVT), VOR/DME. This proposal would replace the Providence, RI (PVD), VOR/DME with the PROVI, RI, WP. In addition, the following points would be removed from the route legal description because they don't mark a turn point: INNDY, MA, Fix; FOSTY, RI, Fix; GRIPE, MA, Fix; STRUM, NH, Fix; UNKER, NH, Fix; MCADM, NH, Fix; ZIECH, VT, Fix; DAVID, VT, Fix; CEVIB, VT, Fix; and POROE, VT, Fix. The amended T-393 would still extend from GAILS, MA, to Burlington, VT.

T-424: T-424 is a proposed new route that would extend from the SMRRF, TN, WP, to the DBRAH, VA, WP. The route would overlay VOR Federal airway V-16 from the Shelbyville, TN (SYI), VOR/DME to the Roanoke, VA (ROA), VOR/DME. In the description of T-424, WPs would replace the following navigation aids as indicated: The SMRRF, TN, WP replaces the Shelbyville, TN (SYI), VOR/DME; the TMPSN, TN, WP replaces the Hinch Mountain, TN (HCH), VOR/DME. The EDDDY, TN, WP replaces the Volunteer, TN (VXV), VORTAC. The HORAL, TN, WP replaces the Holston Mountain, TN (HMV), VORTAC. The DANCO, VA, WP replaces the Pulaski, VA (PSK), VORTAC. The DBRAH, VA, WP replaces the Roanoke, VA (ROA), VOR/DME.

T-426: T-426 is a proposed new route that would extend from the DANCO, VA, WP, to the MCDON, VA WP. The route would overlay VOR Federal airway V-136 from the Pulaski, VA (PSK), VORTAC, to the South Boston, VA (SBV), VORTAC. In the route description, the Pulaski VORTAC would be replaced by the DANCO WP; and the South Boston VORTAC would be replaced by the MCDON, VA, WP.

T-437: T-437 is a proposed new route that would extend from the SIROC, GA, WP, to the ZOOMS, WV, Fix. The route would overlay VOR Federal airway V-37 from the Brunswick, GA (SSI), VORTAC to the ZOOMS Fix. In the T-437 route description, the following navigation aids would be replaced by WPs as follows: The SIROC WP would replace the Brunswick, GA (SSI), VORTAC. The TBERT, SC, WP would replace the Savannah, GA (SAV), VORTAC. The DURBE, SC, WP would replace the Allendale, SC (ALD), VOR. The CAYCE, SC, WP would replace the Columbia, SC (CAE), VORTAC. The CRLNA, NC, WP would replace the Charlotte, NC (CLT), VOR/DME. The DANCO, VA, WP would replace the Pulaski, VA (PSK), VORTAC.

T-439: T-439 is a proposed new route that would extend from the PIGON, AL, Fix, to the HITMAN, TN, WP. The PIGON Fix is located approximately 36 NM northeast of the Monroeville, AL (MVC), VORTAC. The HITMAN WP is located near the Nashville, TN (BNA), VORTAC.

T-441: T-441 is a proposed new route that would extend from the TROPP, SC, WP to the PENCE, TN, WP. The TROPP WP is being used in place of the Charleston, SC (CHS), VORTAC. The PENCE WP is located 19 NM northeast of the Volunteer, TN (VXV), VORTAC. T-441 would overlay VOR Federal airway V-53 from the Charleston, SC (CHS), VORTAC, to the Sugarloaf Mountain, NC (SUG), VORTAC; and overlay VOR Federal airway V-185 from Sugar Loaf Mountain to PENCE, TN. In the route description, WPs would be used in place of navigation aids as follows: The CAYCE, SC, WP would replace the Columbia, SC (CAE), VORTAC. The BURGG, SC, WP would replace the Spartanburg, SC (SPA), VORTAC. The STYLZ, NC, WP would replace the Sugarloaf Mountain VORTAC. The PUPDG, NC WP would replace the Snowbird, TN (SOT), VORTAC.

Full route descriptions of the above T routes are listed in the amendments to part 71 set forth below.

United States RNAV T-routes are published in paragraph 6011 of FAA Order JO 7400.11F, dated August 10, 2021, and effective September 15, 2021, which is incorporated by reference in 14 CFR 71.1. The RNAV routes listed in this document would be subsequently published in FAA Order JO 7400.11.

FAA Order JO 7400.11, Airspace Designations and Reporting Points, is published yearly and effective on September 15.

Regulatory Notices and Analyses

The FAA has determined that this proposed regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 14 CFR 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 6011 United States Area Navigation Routes.

* * * * *

T-209 TBERT, SC to STYLZ, NC [Amended]
TBERT, SC | WP | (Lat. 32°08′46.76″ N, long. 081°11′57.44″ W)
MILEN, GA | FIX | (Lat. 32°54′02.88″ N, long. 081°36′33.99″ W)
WANSA, SC | WP | (Lat. 33°42′26.10″ N, long. 082°09′43.99″ W)
HRTWL, SC | WP | (Lat. 34°15′05.33″ N, long. 082°09′15.55″ W)
STYLZ, NC | WP | (Lat. 35°24′22.83″ N, long. 082°16′07.01″ W)
* * * * * * *
T-239 PCANN, GA to GOINS, MS [Amended]
PCANN, GA | WP | (Lat. 31°39′18.97″ N, long. 084°17′35.80″ W)
TYGRR, AL | WP | (Lat. 31°57′01.21″ N, long. 085°07′49.13″ W)
VLKNN, AL | WP | (Lat. 33°40′12.49″ N, long. 086°53′59.42″ W)
FOGUM, AL | FIX | (Lat. 34°06′25.32″ N, long. 087°49′24.16″ W)
SWIKI, AL | WP | (Lat. 34°11′55.87″ N, long. 088°00′42.44″ W)
GOINS, MS | WP | (Lat. 34°46′12.64″ N, long. 089°29′46.81″ W)
* * * * * * *
T-255 NELIE, CT to Marthas Vineyard, MA (MVY) [Amended]
NELIE, CT | INT | (Lat. 41°56′27.64″ N, long. 72°41′18.88″ W)
PROVI, RI | WP | (Lat. 41°43′25.46″ N, long. 071°25′54.17″ W)
FALMA, RI | FIX | (Lat. 41°22′22.16″ N, long. 71°10′16.25″ W)
Marthas Vineyard, MA (MVY) | VOR/DME | (Lat. 41°23′46.37″ N, long. 70°36′45.78″ W)
* * * * * * *
T-292 LYNRD, AL to JACET, GA [Amended]
LYNRD, AL | WP | (Lat. 30°43′33.26″ N, long. 088°21′34.07″ W)
ANTUH, AL | FIX | (Lat. 31°33′10.56″ N, long. 088°25′36.47″ W)
KWANE, MS | WP | (Lat. 32°22′00.47″ N, long. 088°27′29.43″ W)
DAYVS, AL | WP | (Lat. 33°14′03.93″ N, long. 087°12′07.88″ W)
VLKNN, AL | WP | (Lat. 33°40′12.49″ N, long. 086°53′59.42″ W)
MAYES, AL | FIX | (Lat. 33°58′20.32″ N, long. 085°49′15.34″ W)
RKMRT, GA | WP | (Lat. 34°03′36.73″ N, long. 085°15′02.63″ W)
CCATT, GA | WP | (Lat. 34°16′14.97″ N, long. 084°09′05.36″ W)
TRREE, GA | WP | (Lat. 33°47′14.78″ N, long. 082°55′30.22″ W)
JACET, GA | WP | (Lat. 33°29′41.42″ N, long. 082°06′27.81″ W)
* * * * * * *
T-393 GAILS, MA to Burlington, VT (BTV) [Amended]
GAILS, MA | FIX | (Lat. 41°52′08.51″ N, long. 070°24′07.69″ W)
PROVI, RI | WP | (Lat. 41°43′25.46″ N, long. 071°25′54.17″ W)
PUTNM, CT | WP | (Lat. 41°57′19.65″ N, long. 071°50′38.76″ W)
Gardner, MA (GDM) | VOR/DME | (Lat. 42°32′45.31″ N, long. 072°03′29.48″ W)
KEYNN, NH | WP | (Lat. 42°47′39.99″ N, long. 072°17′30.35″ W)
LBNON, NH | WP | (Lat. 43°40′44.43″ N, long. 072°12′58.18″ W)
Montpelier, VT (MPV) | VOR/DME | (Lat. 44°05′07.74″ N, long. 072°26′57.76″ W)
Burlington, VT (BTV) | VOR/DME | (Lat. 44°23′49.58″ N, long. 073°10′57.48″ W)
* * * * * * *
T-424 SMRRF, TN to DBRAH, VA [New]
SMRRF, TN | WP | (Lat. 35°33′43.23″ N, long. 086°26′20.24″ W)
TMPSN, TN | WP | (Lat. 35°46′51.54″ N, long. 084°58′43.15″ W)
EDDDY, TN | WP | (Lat. 35°54′17.33″ N, long. 083°53′41.72″ W)
CRECY, TN | WP | (Lat. 35°58′52.61″ N, long. 083°38′24.36″ W)
PENCE, TN | WP | (Lat. 36°01′09.80″ N, long. 083°31′26.31″ W)
HORAL, TN | WP | (Lat. 36°26′13.99″ N, long. 082°07′46.48″ W)
DANCO, VA | WP | (Lat. 37°05′15.75″ N, long. 080°42′46.45″ W)
DBRAH, VA | WP | (Lat. 37°20′34.14″ N, long. 080°04′10.75″ W)
* * * * * * *
T-426 DANCO, VA to MCDON, VA [New]
DANCO, VA | WP | (Lat. 37°05′15.75″ N, long. 080°42′46.45″ W)
TABER, VA | WP | (Lat. 37°02′55.04″ N, long. 080°02′55.66″ W)
PIGGS, VA | FIX | (Lat. 36°56′01.81″ N, long. 079°42′40.61″ W)
DUNCE, VA | WP | (Lat. 36°50′52.00″ N, long. 079°29′18.20″ W)
MCDON, VA | WP | (Lat. 36°40′29.56″ N, long. 079°00′52.03″ W)
* * * * * * *
T-437 SIROC, OG to ZOOMS, WV [New]
SIROC, OG | WP | (Lat. 31°03′02.32″ N, long. 081°26′45.89″ W)
KELER, GA | FIX | (Lat. 31°55′07.40″ N, long. 081°11′09.14″ W)
TBERT, SC | WP | (Lat. 32°08′46.76″ N, long. 081°11′57.44″ W)
DURBE, SC | WP | (Lat. 33°00′44.75″ N, long. 081°17′32.69″ W)
CAYCE, SC | WP | (Lat. 33°51′26.13″ N, long. 081°03′14.76″ W)
CRLNA, NC | WP | (Lat. 35°12′49.48″ N, long. 080°56′57.32″ W)
DANCO, VA | WP | (Lat. 37°05′15.75″ N, long. 080°42′46.45″ W)
ZOOMS, WV | FIX | (Lat. 37°28′32.22″ N, long. 080°35′06.70″ W)
* * * * * * *
T-439 PIGON, AL to HITMN, TN [New]
PIGON, AL | FIX | (Lat. 31°33′33.58″ N, long. 086°39′51.18″ W)
PICKS, AL | FIX | (Lat. 31°47′02.35″ N, long. 086°55′03.13″ W)
RABEC, AL | WP | (Lat. 32°16′11.64″ N, long. 086°58′01.67″ W)
WALTY, AL | FIX | (Lat. 33°00′11.43″ N, long. 086°51′29.95″ W)
DAYVS, AL | WP | (Lat. 33°14′03.93″ N, long. 087°12′07.88″ W)
OAKGO, AL | FIX | (Lat. 33°27′13.10″ N, long. 087°14′11.79″ W)
NEGEE, AL | FIX | (Lat. 33°48′12.56″ N, long. 087°10′36.89″ W)
NULLS, AL | WP | (Lat. 34°02′24.50″ N, long. 086°56′17.64″ W)
HITMN, TN | WP | (Lat. 36°08′12.47″ N, long. 086°41′05.25″ W)
* * * * * * *
T-441 TROPP, SC to PENCE, TN [New]
TROPP, SC | WP | (Lat. 32°53′40.00″ N, long. 080°02′16.59″ W)
CAYCE, SC | WP | (Lat. 33°51′26.13″ N, long. 081°03′14.76″ W)
BURGG, SC | WP | (Lat. 35°02′00.55″ N, long. 081°55′36.86″ W)
STYLZ, NC | WP | (Lat. 35°24′22.83″ N, long. 082°16′07.01″ W)
MUMMI, NC | FIX | (Lat. 35°39′48.60″ N, long. 082°47′30.15″ W)
PUPDG, NC | WP | (Lat. 35°46′30.08″ N, long. 083°03′40.16″ W)
PENCE, TN | WP | (Lat. 36°01′09.80″ N, long. 083°31′26.31″ W)

* * * * *

Issued in Washington, DC, on July 18, 2022.
Scott M. Rosenbloom,
Manager, Airspace Rules and Regulations.

[FR Doc. 2022-15809 Filed 7-22-22; 8:45 am]

BILLING CODE 4910-13-P